DEPARTMENT OF COMMERCE

National Oceanic and Atmospheric Administration

[I.D. No. 031606B]

Endangered and Threatened Wildlife and Plants: Announcement of Initiation of a Status Review of the Cook Inlet Beluga Whale under the Endangered Species Act (ESA)

AGENCY: National Marine Fisheries Service (NMFS), National Oceanic and Atmospheric Administration (NOAA), Commerce.

ACTION: Notice; request for information.

SUMMARY: We, NOAA's National Marine Fisheries Service (NMFS), intend to review the status of the Cook Inlet beluga whale pursuant to the ESA to determine if this group of beluga whales should be listed as an endangered or threatened species. We previously reviewed the status of these whales in 1998, and in 2000 concluded that a listing under the ESA was not warranted at that time. We solicit information to be used in reassessing the status of the Cook Inlet beluga whale.

DATES: Comments and information must be received by April 24, 2006.

ADDRESSES: Comments and information should be sent to Kaja Brix, Assistant Regional Administrator, Protected Resources Division, NMFS, Alaska Region, Attn: Ellen Walsh. Comments may be submitted by:

(1) Mail: P.O. Box 21668, Juneau, AK 99802-1668;

(2) Hand Delivery to the Federal Building: 709 West 9thStreet, Room 420A, Juneau, AK;

(3) FAX: 907-586-7557; or

(4) Email:CIB-ESA-Status-Review@noaa.gov. Include in the subject line of the email the following document identifier: CI Belugas Status Review. Email comments, with or without attachments, are limited to five (5) megabytes.

FOR FURTHER INFORMATION CONTACT: Brad Smith, NMFS Alaska Region, Anchorage Field Office, (907) 271-5006, Kaja Brix, NMFS, Alaska Region, (907) 586-7235, or Marta Nammack, Office of Protected Resources, (301) 713-1401.

SUPPLEMENTARY INFORMATION: ESA section 4 contains provisions and procedures for adding and removing species to the lists of endangered and threatened species. In particular, section 4(a) provides that NMFS shall determine whether any species is threatened or endangered because of any of the following factors: (1) The present or threatened destruction, modification, or curtailment of its habitat or range; (2) overutilization for commercial, recreational, scientific, or educational purposes; (3) disease or predation; (4) the inadequacy of existing regulatory mechanisms; or (5) other natural or manmade factors affecting its continued existence.

Pursuant to the ESA, and in response to petitions from external organizations, we reviewed the status of the Cook Inlet beluga whale under the ESA. We determined in 2000 that this group is a distinct population segment (DPS) and, thus, a separate "species" as defined by the ESA. We also determined that listing the Cook Inlet beluga whale DPS as a threatened or endangered species was not warranted at that time (65 FR 38778; June 22, 2000).

Between 1994, when we initiated abundance surveys for the stock, and 1998, the Cook Inlet beluga whale population declined from an estimated 673 animals to an estimated 347 animals. We stated that the population was likely declining when the 1994 abundance was estimated, and the historical abundance was likely more than 1,000 animals. Subsistence harvest in 1995-1997 was estimated at 87 whales per year, and we concluded this level of harvest accounted for the observed decline of the population. At the time, no other factors could be identified as having a significant effect on the beluga population. Because there was an adequate regulatory mechanism in place to address subsistence harvest, we concluded that an ESA listing was not warranted. This determination was based in part on the expectation that the population would increase after the harvest was reduced to sustainable levels.

We are concerned that recovery may not be occurring as expected, and we recognize that long-term persistence at a small population size increases the risk to this population. Therefore, we plan to re-evaluate the status of the Cook Inlet beluga whale DPS under the ESA.

ESA section 4(a)(3) provides that NMFS shall, concurrent with making a determination that a species is threatened or endangered, designate critical habitat for that species. Critical habitat consists of specific areas in which are found physical and biological features essential to the conservation of the species and which may require special management considerations or protection. Cook Inlet beluga whales occur primarily in upper Cook Inlet, where human development and occupation have been extensive. The status review concerns only whether the Cook Inlet beluga whales should be listed. However, if we determine listing is necessary, we would also determine whether designation of critical habitat is prudent and determinable.

Information Solicited

To ensure the status review is complete and based on the best available scientific and commercial data, we solicit information and comments concerning the Cook Inlet beluga whales and the extent to which natural or human factors may be affecting them. We are particularly interested in information that has been collected since 1998, when the previous status review was initiated, or information that was not available for consideration during that status review. We are seeking available information on: (1) Current known range of the Cook Inlet beluga whale, with a particular focus on current and historical habitat use; (2) demographic movements; (3) trends in foraging habits and seasonal prey abundance; (4) trends in environmental contamination; (5) contaminant burdens in prey species, especially salmonids and eulachon; (6) impacts caused by human recreational activities (e.g., boating); (7) current and planned activities and their possible impacts to the Cook Inlet beluga whale (e.g., habitat modification); (8) efforts to protect the Cook Inlet beluga whale or improve its habitat; (9) non-human factors that may have contributed to its decline (i.e., disease, biotoxins, climatic or oceanographic regime shifts); and (10) industry effects from oil and gas, municipal wastewater, commercial fishing, commercial shipping, etc., and associated noise.

Information is available on the Cook Inlet beluga whale at: http://www.fakr.noaa.gov/protectedresources/whales/beluga.htm.

Dated: March 20, 2006.
Jim Lecky,
Director, Office of Protected Resources, National Marine Fisheries Service.

[FR Doc. E6-4323 Filed 3-23-06; 8:45 am]

BILLING CODE 3510-22-S